DEPARTMENT OF THE INTERIOR

Bureau of Indian Affairs

Implementation of Question 10 of 25 CFR Part 170, Subpart C, Indian Reservation Roads Program

AGENCY: Bureau of Indian Affairs, Interior.

ACTION: Notice of Tribal Consultations.

SUMMARY: The Bureau of Indian Affairs (BIA) is announcing tribal consultations to discuss a proposed change in how BIA and the Federal Highway Administration (FHWA) will implement Question 10 of 25 CFR Part 170, Subpart C. Question 10 determines the percentages that certain transportation facilities contribute to the calculation of the Relative Need Distribution Factor (RNDF) formula for Indian Reservation Road (IRR) Program funds. The determination is significant because a facility's eligibility for Federal funds will be used to determine the amount of IRR funds a tribe may be eligible to receive. The proposed change will affect the allocation of funding among tribes.

FOR FURTHER INFORMATION CONTACT: LeRoy Gishi, Chief, Division of Transportation, BIA, 1951 Constitution Ave., NW., MS-320-SIB, Washington, DC 20240, telephone (202) 513-7711; or Robert W. Sparrow, Jr., IRR Program Manager, Federal Highway Administration, 1200 New Jersey Ave, NE, Room E61-311, Washington, DC 20159, telephone (202) 366-9483.

SUPPLEMENTARY INFORMATION: Federally recognized tribes are invited to attend one or more of the following consultation sessions regarding how BIA and the Federal Highway Administration (FHWA) will implement Question 10 of 25 CFR Part 170, Subpart C. Question 10 states, in part:

10. Do All IRR Transportation Facilities in the IRR Inventory Count at 100 Percent of their CTC and VMT?

No. The CTC and VMT must be computed at the non-Federal share requirement for matching funds for any transportation facility that is added to the IRR inventory and is eligible for funding for construction or reconstruction with Federal funds, other than Federal Lands Highway Program funds.

BIA currently determines a facility's percentage contribution based on ownership. BIA proposes to change its approach by utilizing the facility's functional classification as the determining factor. The IRR Program falls under the Federal Highway Administration's Federal Lands Highway Program. This approach will closely align the IRR Program with the FHWA Federal-Aid classification.

Meeting Dates and Locations

The consultation sessions will be held on the following dates, at the following locations:

Meeting date | Location | Time
July 28, 2010 | Providence, RI | 1 p.m.-5 p.m.
August 17, 2010 | Albuquerque, NM | 9 a.m.-1 p.m.
August 18, 2010 | Las Vegas, NV | 9 a.m.-1 p.m.
August 19, 2010 | Sacramento, CA | 1 p.m.-5 p.m.
August 31, 2010 | Billings, MT | 9 a.m.-1 p.m.
September 1, 2010 | Minneapolis, MN | 1 p.m.-5 p.m.
September 14, 2010 | Anchorage, AK | 9 a.m.-1 p.m.
September 15, 2010 | Seattle, WA | 1 p.m.-5 p.m.
September 21, 2010 | Oklahoma City, OK | 9 a.m.-1 p.m.
September 22, 2010 | Rapid City, SD | 1 p.m.-5 p.m.

Meeting Agenda (All Times Local)

9 a.m.-9:15 a.m. (or 1 p.m.-1:15 p.m.) Welcome, Introductions, Ground Rules

9:15 a.m.-9:30 a.m. (or 1:15 p.m.-1:30 p.m.) Opening and Overview

9:30 a.m.-10:30 a.m. (or 1:30 p.m.-2:30 p.m.) Question 10 Directive

10:30 a.m.-12:45 p.m. (or 2:30 p.m.-4:45 p.m.) Public Comment and Questions

12:45 p.m.-1 p.m. (or 4:45 p.m.-5 p.m.) Closing Comments

1 p.m. (or 5 p.m.) Adjourn

Dated: July 7, 2010.
Larry Echo Hawk,
Assistant Secretary-Indian Affairs.

[FR Doc. 2010-17174 Filed 7-13-10; 8:45 am]

BILLING CODE 4310-6W-P